DEPARTMENT OF ENERGY

Federal Energy Regulatory Commission

[Docket No. EL15-22-000]

Nevada Power Company; Notice Setting Due Date for Intervention in Section 206 Proceeding

On December 9, 2014, the Commission issued an order in Docket Nos. EL15-22-000, ER10-2475-006, ER10-2474-006, ER10-3246-003, ER13-520-002, ER13-521-002, ER13-1441-002, ER13-1442-002, ER12-1626-003, ER13-1266-003, ER13-1267-002, ER13-1268-002, ER13-1269-002, ER13-1270-002, ER13-1271-002, ER13-1272-002, ER13-1273-002, and ER10-2605-006, pursuant to section 206 of the Federal Power Act (FPA), 16 U.S.C. 824e (2012), instituting an investigation concerning the justness and reasonableness of the Berkshire MBR Sellers' and their affiliates' market-based rates in the PacifiCorp-East, PacifiCorp-West, Idaho Power, and NorthWestern balancing authority areas. Nevada Power Company, 149 FERC ¶ 61,219 (2014). On January 5, 2015, the Commission issued a notice establishing a refund effective date.

Any interested person desiring to become a party in the above-referenced proceeding must file a notice of intervention or motion to intervene, as appropriate, in accordance with Rule 214 of the Commission's Rules of Practice and Procedure (18 CFR 385.214) by 5:00 p.m. Eastern time on January 20, 2015. The Commission encourages electronic submission of interventions in lieu of paper using the “eFiling” link at http://www.ferc.gov. Persons unable to file electronically should submit an original hard copy of the intervention to the Federal Energy Regulatory Commission, 888 First Street NE., Washington, DC 20426.

Dated: January 9, 2015.
Kimberly D. Bose,
Secretary.

[FR Doc. 2015-00570 Filed 1-15-15; 8:45 am]

BILLING CODE 6717-01-P